DEPARTMENT OF COMMERCE

International Trade Administration

[A-122-506]

Notice of Final Results of Antidumping Duty Administrative Review: Oil Country Tubular Goods From Canada

AGENCY: Import Administration, International Trade Administration, Department of Commerce.

SUMMARY: On March 8, 2001, the Department of Commerce (the Department) published the preliminary results of its administrative review of the antidumping duty order on oil country tubular goods (OCTG) from Canada. See Notice of Preliminary Results of Antidumping Duty Administrative Review: Oil Country Tubular Goods from Canada 66 FR 13893 (March 8, 2001) (Preliminary Results). This review covers one manufacturer/exporter, Atlas Tube, Inc. (Atlas), and the period June 1, 1999, through December 31, 1999. We gave interested parties an opportunity to comment on the Preliminary Results of review. We received notification on March 19, 2001 that the single respondent, Atlas, did not intend to file comments. We did not receive any comments from any other parties.

EFFECTIVE DATE: June 26, 2001.

FOR FURTHER INFORMATION CONTACT: Nithya Nagarajan, AD/CVD Enforcement, Office IV, Group II, Import Administration, International Trade Administration, U.S. Department of Commerce, 14th Street and Constitution Avenue, NW., Washington, DC 20230; telephone (202) 482-5253.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department's regulations are to 19 CFR Part 351 (1999).

Background

On March 8, 2001, the Department published in the Federal Register (66 FR 13893) the Preliminary Results of this review. We invited parties to comment on our Preliminary Results. We received notification on March 19, 2001, from Atlas, the only respondent in this segment of the proceeding, that it did not intend to submit either case or rebuttal briefs. In addition, we did not receive any comments from any other party.

In the Preliminary Results, we found the dumping margin for Atlas to be 6.56 percent. We have now completed the administrative review in accordance with section 751 of the Act and find the rate to be 6.66 percent, due to the fact that Atlas had filed revised home market sales, U.S. sales, and cost of production databases on February 9, 2001, which the Department inadvertently failed to use in calculating its preliminary results of review.

Scope of the Review

The products covered by this review include shipments of OCTG from Canada. This includes American Petroleum Institute (API) specification OCTG and all other pipe with the following characteristics except entries which the Department determined through its end-use certification procedure were not used in OCTG applications: Length of at least 16 feet; outside diameter of standard sizes published in the API or proprietary specifications for OCTG with tolerances of plus ⅛ inch for diameters less than or equal to 8⅝ inches and plus ¼ inch for diameters greater than 8⅝ inches, minimum wall thickness as identified for a given outer diameter as published in the API or proprietary specifications for OCTG; a minimum of 40,000 PSI yield strength and a minimum 60,000 PSI tensile strength; and if with seams, must be electric resistance welded. Furthermore, imports covered by this review include OCTG with non-standard size wall thickness greater than the minimum identified for a given outer diameter as published in the API or proprietary specifications for OCTG, with surface scabs or slivers, irregularly cut ends, ID or OD weld flash, or open seams; OCTG may be bent, flattened or oval, and may lack certification because the pipe has not been mechanically tested or has failed those tests. This merchandise is currently classifiable under the Harmonized Tariff Schedules (HTS) item numbers 7304.20, 7305.20, and 7306.20. The HTS item numbers are provided for convenience and U.S. Customs purposes. The written description remains dispositive.

Analysis of Comments Received

We did not receive any interested party comments on our Preliminary Results. Therefore, there is no Issues and Decision Memorandum for the final results of review.

Final Results of Review

We have determined that the only change to our analysis for purposes of these final results are the use of the revised home market sales, U.S. sales, and cost of production databases filed by Atlas on February 9, 2001. As a result of this review, we determine that a 6.66 percent dumping margin exists for Atlas for the period June 1, 1999, through December 31, 1999.

Assessment

The Department shall determine, and Customs shall assess, antidumping duties on all appropriate entries. We have calculated an importer-specific duty assessment rate based on the ratio of the total amount of antidumping duties calculated for the importer-specific sales to the total entered value of the same sales. Atlas reported entered value by subtracting discounts, freight, brokerage and handling costs from the reported U.S. price. Since the importer-specific rate is above de minimis, we will instruct Customs to assess duties on the importer's entries of subject merchandise. The Department will issue appraisement instructions directly to Customs.

Pursuant to section 751(d)(2) of the Act, on August 22, 2000, the Department revoked the antidumping duty order on OCTG from Canada, effective January 1, 2000 (65 FR 50954). Therefore, we instructed Customs to liquidate all entries of subject merchandise made on or after January 1, 2000, without regard to antidumping duties. As a result of this revocation, we will not issue cash deposit instructions to Customs based on the results of this review.

Notification

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

This administrative review and notice are in accordance with sections 751(a)(1) and 777(i)(1).

Dated: June 18, 2001.
Faryar Shirzad,
Assistant Secretary for Import Administration.

[FR Doc. 01-16016 Filed 6-25-01; 8:45 am]

BILLING CODE 3510-DS-P